DEPARTMENT OF VETERANS AFFAIRS

[OMB Control No. 2900-0559]

Agency Information Collection Activity: (Grant Funded Cemetery Data Sheet and Cemetery Grant Documents)

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information of the VA Forms required of a State or Tribal Organization seeking a grant for the establishment, expansion, or improvement of a State of Tribal veterans cemetery for preapplication.

DATES: Written comments and recommendations on the proposed collection of information should be received on or before September 5, 2023.

ADDRESSES: Submit written comments on the collection of information through Federal Docket Management System (FDMS) at www.Regulations.gov or to Brian Hurley, National Cemetery Administration (42E), Department of Veterans Affairs, 810 Vermont Avenue NW, Washington, DC 20420 or email to Brian.Hurley1@va.gov. Please refer to “OMB Control No. 2900-0559” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0559” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NCA invites comments on: (1) whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Authority: 25 U.S.C. 450b(1); 38 U.S.C. 501; 38 U.S.C. 2408; 38 U.S.C. 2411; 38 CFR 39.31.

Title: Grant Funded Cemetery Data, VA Form 40-0241 and Cemetery Grant Documents, 40-0895 Series.

OMB Control Number: 2900-0559.

Type of Review: Revision of a currently approved collection.

Abstract: VA Form 40-0241 and Cemetery Grant Documents, 40-0895 Series, are required to provide data regarding the number of interments conducted at VA Grant Funded Veterans cemeteries and support grant preapplication each year. This data is necessary for budget, oversight and compliance purposes associated with exiting and establishment of new State and Tribal government Veteran cemeteries.

Affected Public: State, Local and Tribal Governments.

Estimated Annual Burden: 296 hours.

Estimated Average Burden per Respondent: 15 minutes.

Frequency of Response: Annual.

Estimated Number of Respondents: 292.

By direction of the Secretary.
Dorothy Glasgow,
VA PRA Clearance Officer, (Alt.), Office of Enterprise and Integration/Data Governance Analytics, Department of Veterans Affairs.

[FR Doc. 2023-14424 Filed 7-6-23; 8:45 am]

BILLING CODE 8320-01-P